DEPARTMENT OF COMMERCE

International Trade Administration

[A-570-952]

Narrow Woven Ribbon With Woven Selvedge From the People's Republic of China: Preliminary Results and Partial Rescission of Administrative Review; 2012-2013

AGENCY: Enforcement and Compliance, International Trade Administration, Department of Commerce.

SUMMARY: The Department of Commerce (“the Department”) is conducting the third administrative review (“AR”) of the antidumping duty order on narrow woven ribbon with woven selvedge (“NWR”) from the People's Republic of China (“PRC”). The AR covers 15 exporters of subject merchandise; the Department selected one company for individual examination. The period of review (“POR”) is September 1, 2012, through August 31, 2013. Because the Department received timely review request withdrawals for one company that previously received a separate rate, the Department is rescinding its review of this company. Additionally, the Department preliminarily determines that it will treat the sole company for which a review was requested and not subsequently withdrawn as part of the PRC-wide entity, which is subject to this AR. Interested parties are invited to comment on these preliminary results.

DATES: Effective Date: June 9, 2014.

FOR FURTHER INFORMATION CONTACT: Drew Jackson at (202) 482-4406; AD/CVD Operations, Enforcement and Compliance, U.S. Department of Commerce, 14th Street and Constitution Avenue NW., Washington, DC 20230.

SUPPLEMENTARY INFORMATION:

Scope of the Order

The products covered by the order are narrow woven ribbons with woven selvedge.¹ The merchandise subject to the order is classifiable under the Harmonized Tariff Schedule of the United States (“HTSUS”) subheadings 5806.32.1020; 5806.32.1030; 5806.32.1050 and 5806.32.1060. Subject merchandise also may enter under HTSUS subheadings 5806.31.00; 5806.32.20; 5806.39.20; 5806.39.30; 5808.90.00; 5810.91.00; 5810.99.90; 5903.90.10; 5903.90.25; 5907.00.60; and 5907.00.80 and under statistical categories 5806.32.1080; 5810.92.9080; 5903.90.3090; and 6307.90.9889. Although the HTSUS subheadings are provided for convenience and customs purposes, the written product description in the Order remains dispositive.²

¹ See Notice of Antidumping Duty Orders: Narrow Woven Ribbons With Woven Selvedge From Taiwan and the People's Republic of China: Antidumping Duty Orders, 75 FR 53632 (September 1, 2010), as amended in Narrow Woven Ribbons With Woven Selvedge From Taiwan and the People's Republic of China: Amended Antidumping Duty Orders, 75 FR 56982 (September 17, 2010) (“Order”).

² For a complete description of the scope of the order, please see “Decision Memorandum for Preliminary Results of Antidumping Duty Administrative: Narrow Woven Ribbons With Woven Selvedge from the People's Republic of China,” from Christian Marsh, Deputy Assistant Secretary for Antidumping and Countervailing Duty Operations, to Paul Piquado, Assistant Secretary for Enforcement and Compliance (“Preliminary Decision Memorandum”), dated concurrently with this notice.

Methodology

The Department is conducting this review in accordance with section 751(a)(1)(B) of the Tariff Act of 1930, as amended (“the Act”). The Department issued Yangzhou Bestpak Gifts & Crafts Co., Ltd. (“Bestpak”), a company for which an AR was requested, questionnaires, but Bestpak did not respond to the Department's questionnaires.³ Because Bestpak did not establish that its export activities are separate from that of the PRC-wide entity, in accordance with 19 CFR 351.107(d), we have determined that Bestpak is part of the PRC-wide entity. Because the PRC-wide entity failed to provide responses to our questionnaires and cooperate to the best of its ability in complying with our requests for information, we have determined an estimated weighted-average dumping margin based on adverse facts available (“AFA”), in accordance with section 776(a) and (b) of the Act for the PRC-wide entity. For a full description of the methodology underlying our conclusions, see the Preliminary Decision Memorandum, which is hereby adopted with this notice. The Preliminary Decision Memorandum is a public document and is on file electronically via Enforcement and Compliance's Antidumping and Countervailing Duty Centralized Electronic Service System (“IA ACCESS”). IA ACCESS is available to registered users at http://iaaccess.trade.gov and in the Central Records Unit, Room 7046 of the main Department of Commerce building. In addition, a complete version of the Preliminary Decision Memorandum can be accessed directly at http://enforcement.trade.gov/frn/. The signed Preliminary Decision Memorandum and the electronic versions of the Preliminary Decision Memorandum are identical in content.

³ See memorandum to The File from Drew Jackson, International Trade Compliance Analyst, AD/CVD Operations, Office 4, regarding, “Results of Quantity and Value Questionnaire Delivery Tracking Query,” dated concurrently with this notice.

Partial Rescission of Review

For those exporters named in the Initiation Notice ⁴ that are not considered part of the PRC-wide entity for which all review requests have been withdrawn, the Department is rescinding this administrative review, in accordance with 19 CFR 351.213(d)(1). The exporters for which we are rescinding this review are Hubscher Ribbon Corp., Ltd. d/b/a Hubschercorp ⁵ (“Hubscher”) and Yama Ribbons and Bows Co., Ltd (“Yama Ribbons”).⁶ Antidumping duties shall be assessed at rates equal to the cash deposit of estimated antidumping duties required at the time of entry, or withdrawal from warehouse, for consumption, in accordance with 19 CFR 351.212(c)(2).

⁴ See Initiation of Antidumping and Countervailing Duty Administrative Reviews and Request for Revocation in Part, 78 FR 67104 (November 8, 2013) (“Initiation Notice”).

⁵ In a prior administrative review, the Department determined that Hubscher is a third-country reseller from Canada. See Narrow Woven Ribbons With Woven Selvedge From the People's Republic of China: Final Results of Antidumping Duty Administrative Review; 2010-2011, 78 FR 10130 (February 13, 2013). The Department assigned this company a rate of 247.65 percent based on AFA. See id. The Department's assignment of this AFA rate to Hubscher was recently affirmed by the Court of International Trade as supported by substantial evidence and otherwise in accordance with law. See Hubscher Ribbon Corp. v. United States, Slip Op. 14-38 (CIT April 25, 2014).

⁶ Yama Ribbons participated in the Department's antidumping duty investigation of NWR from the PRC, and as a result of that investigation, merchandise both produced and exported by Yama Ribbons is excluded from the Order. See Notice of Amended Final Determination of Sales at Less Than Fair Value and Antidumping Duty Order/Pursuant to Court Decision: Wooden Bedroom Furniture From the People's Republic of China, 71 FR 67099 (November 20, 2006). Accordingly, this rescission applies only to merchandise that is either produced, but not exported by Yama Ribbons, or exported, but not produced by Yama Ribbons.

Intent Not To Rescind Review in Part

We have received withdrawal of administrative review requests for the following exporters that remain a part of the PRC-wide entity, which is currently under review: (1) Apex Trimmings Inc. d/b/a Papillon Ribbon & Bow (Canada); (2) Cheng Hsing Ribbon Factory; (3) Hen Hao Trading Co., Ltd. a.k.a. Taiwan Tulip Ribbons and Braid Co. Ltd; (4) Hsien Chan Enterprise Co., Ltd; (5) King Young Enterprises Co., Ltd; (6) Multicolor; (7) Novelty Handicrafts Co., Ltd; (8) Papillon Ribbon & Bow (H.K.) Ltd; (9) Papillon Ribbon & Bow (Shanghai) Ltd; (10) Roung Shu Industry Corporation a.k.a Cheng Hsing Ribbon Factory; (11) Shienq Huong Enterprise Co., Ltd; and, (12) Yu Shin Development Co. Ltd. For those exporters named in the Initiation Notice for which all administrative review requests have been withdrawn, but which have not previously received separate rate status, the Department's practice is to refrain from rescinding the administrative review with respect to these exporters at this time.⁷ As stated above, requests for review of several exporters belonging to the PRC-wide entity were timely withdrawn. While the requests for review were timely withdrawn, the exporters remain part of the PRC-wide entity. The PRC-wide entity is under review for these preliminary results. Therefore, at this time, we are not rescinding this administrative review with respect to those exporters belonging to the PRC-wide entity for which a request for review has been withdrawn.

⁷ See, e.g., Small Diameter Graphite Electrodes from the People's Republic of China: Final Results of Antidumping Duty Administrative Review; 2011-2012, 78 FR 55680 (September 11, 2013).

Preliminary Results of Review

We preliminarily determine that the following weighted-average dumping margins exist for the period September 1, 2012, through August 31, 2013.

Exporter | Weighted- average dumping margin (percent)
PRC-wide entity ⁸ | 247.65

Public Comment and Opportunity To Request a Hearing

Interested parties may submit case briefs no later than 30 days after the date of publication of these preliminary results of review.⁹ Rebuttals briefs may be filed no later than five days after the written comments are filed and all rebuttal comments must be limited to comments raised in the case briefs.¹⁰

⁸ The PRC-wide entity includes, among other companies, Yangzhou Bestpak Gifts & Crafts Co., Ltd.

⁹ See 19 CFR 351.309(c).

¹⁰ See 19 CFR 351.309(d).

Any interested party may request a hearing within 30 days of publication of this notice.¹¹ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.¹²

¹¹ See 19 CFR 351.310(c).

¹² See 19 CFR 351.310(d).

The Department will issue the final results of this AR, which will include the results of its analysis of issues raised in any briefs received, within 120 days of publication of these preliminary results, pursuant to section 751(a)(3)(A) of the Act.

Assessment Rates

With regard to the partial rescission of this review, the Department will instruct Customs and Border Protection (CBP) to assess antidumping duties on all appropriate entries. The Department intends to issue appropriate partial rescission assessment instructions directly to CBP 15 days after publication of these preliminary results of review in the Federal Register.

Upon issuing the final results of this review, the Department will determine, and CBP shall assess, antidumping duties on all appropriate entries covered by these reviews.¹³ The Department intends to issue assessment instructions to CBP 15 days after the publication date of the final results of this review.

¹³ See 19 CFR 351.212(b).

The Department announced a refinement to its assessment practice in NME cases. Pursuant to this refinement in practice, for entries that were not reported in the U.S. sales database submitted by companies individually examined during the administrative review, the Department will instruct CBP to liquidate such entries at the PRC-wide rate. Additionally, if the Department determines that an exporter had no shipments of subject merchandise, any suspended entries that entered under that exporter's case number (i.e., at that exporter's rate) will be liquidated at the PRC-wide rate.¹⁴

¹⁴ For a full discussion of this practice, see Non-Market Economy Antidumping Proceedings: Assessment of Antidumping Duties, 76 FR 65694 (October 24, 2011).

Cash Deposit Requirements

The following cash deposit requirements will be effective upon publication of the final results of this review for shipments of subject merchandise from the PRC entered, or withdrawn from warehouse, for consumption on or after the publication date, as provided by section 751(a)(2)(C) of the Act: (1) For any previously reviewed or investigated PRC and non-PRC exporter not listed above that received a separate rate in a previous segment of this proceeding, the cash deposit rate will continue to be the existing exporter-specific rate published for the most recently completed period; (2) for all PRC exporters that have not been found to be entitled to a separate rate, the cash deposit rate will be that for the PRC-wide entity (i.e., 247.65 percent); and (3) for all non-PRC exporters of subject merchandise which have not received their own rate, the cash deposit rate will be the rate applicable to the PRC exporter that supplied the non-PRC exporter. These cash deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(1) and 777(i)(1) of the Act and 19 CFR 351.213.

Dated: June 2, 2014.
Paul Piquado,
Assistant Secretary for Enforcement and Compliance.

Appendix I

List of Topics Discussed in the Preliminary Decision Memorandum

1. Background

2. Period of Review

3. Scope of the Order

4. Respondent Selection

5. Partial Rescission of Review

6. Intent Not To Rescind Review, in Part

7. Separate Rates Determination

8. The PRC-Wide Entity

9. Rate for the PRC-Wide Entity

[FR Doc. 2014-13436 Filed 6-6-14; 8:45 am]

BILLING CODE 3510-DS-P